NATIONAL FOUNDATION FOR THE ARTS AND HUMANITIES

Agency Information Collections Activities; Submission for OMB Review, Comment Request; Generic Clearance for Grant Applications, Guidelines and Reporting Forms

AGENCY: Institute of Museum and Library Services.

ACTION: Notice of Requests for Extension of Information Collection Approvals

SUMMARY: The Institute of Museum and Library Services announces the following information collection has been submitted to the Office of Management and Budget for review and approval in accordance with the Paperwork Reduction Act of 1995 (Pub. L. 104-13, 44 U.S.C. Chapter 35). Currently, the Institute of Museum and Library Services is soliciting comment concerning extending collection entitled, Generic Clearance for Grant Applications, Guidelines and Reporting forms. A copy of this proposed form, with applicable supporting documentation, may be obtained by calling the Institute of Museum and Library Services, Director of Public and Legislative Affairs, Mamie Bittner at (202) 606-8339. Individuals who use a telecommunications device for the deaf (TTY/TDD) may call (202) 606-8636.

DATES: Comments must be received by December 13, 2000. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: Send comments to: Mamie Bittner, Director of Legislative and Public Affairs, Institute of Museum and Library Services, 1100 Pennsylvania Ave., NW, Room 510, Washington, DC 20506.

SUPPLEMENTARY INFORMATION:

I. Background

Public Law 104-208 enacted on September 30, 1996 contains the former Museum Services Act and the Library Services and Technology Act, a reauthorization. Public Law 104-208 authorizes the Director of the Institute of Museum and Library Services to make grants to improve museum and library service throughout the United States.

Agency: Institute of Museum and Library Services.

Title: Application Guidelines, Interim and Final Performance Reports.

OMB Number: 3137-0029.

Agency Number: 3137.

Frequency: Annually.

Affected Public: State Library Administrative Agencies, museums, libraries.

Number of Respondents: 2,664.

Estimated Time Per Respondent: 1-40 hours (see chart).

Total Burden Hours: 36,432.

Total Annualized capital/startup costs: 0.

Total Annual Costs: 0.

CONTACT: Comments should be sent to Office of Information and Regulatory Affairs, Attn.: OMB Desk Officer for Education, Office of Management and Budget, Room 10235, Washington, DC 20503 (202) 395-7316.

Mamie Bittner,
Director Public and Legislative Affairs.

Title of publication | Burden hours | Number of respondents
Museum Assessment Program Grant and Application Guidelines | 4 | 180
Conservation Assessment Program Grant and Application Guidelines | 4 | 208
Conservation Project (CP) Grant Application and guidelines | 9 | 210
CP Interim Performance Report | 1 | 68
CP Final Performance Report | 1 | 68
General Operation Support Grant Application and Guidelines | 18 | 823
GOS final Performance Report | 1 | 202
National Leadership Grant Application and Guidelines for Museums and Libraries | 40 | 277
National Leadership Grant for Museums and Libraries Interim Report | 1 | 50
National Leadership Grant for Museums and Libraries Final Report | 2 | 50
State Grants Annual Report | 18 | 56
Native American Library Services Application and guidelines | 14 | 400

[FR Doc. 00-28903 Filed 11-9-00; 8:45 am]

BILLING CODE 7036-01-M